DEPARTMENT OF STATE

[Public Notice 3255]

Bureau of Economic and Business Affairs; Finding of No Significant Impact: Dakota Gasification Company at Bismarck, North Dakota

AGENCY: Department of State.

ACTION: Notice of a finding of no significant impact with regard to an application to construct, operate and maintain a pipeline to transport carbon dioxide across the U.S.-Canada border.

SUMMARY: The Department of State has conducted an environmental assessment of the proposed construction by Dakota Gasification Company of a pipeline for the transport of carbon dioxide crossing the international boundary near Crosby, North Dakota. In the course of the Department of State's review of the Environmental Assessment, the applicant was requested to provide additional information on the issues of environmental justice and alternative pipeline routes. A number of the other U.S. Government agencies involved in the approval process also requested additional information. Dakota Gasification Company provided this information which has been included in the environmental assessment package. This information may be viewed upon request in the Office of International Energy and Commodity Policy at the Department of State.

Based on this information, the Department of State has concluded that issuance of a Presidential Permit authorizing construction of the pipeline will not have a significant effect on the existing vegetation and wildlife, water resources, land use, air quality and human population within the United States. In reaching this conclusion, the Department of State considered several alternatives, including a no-action alternative. In accordance with the National Environmental Policy Act, 42 U.S.C. section 4321 et seq., Council on Environmental Quality Regulations, 40 CFR 1501.4 and 1508.13 and Department of State Regulations, 22 CFR 161.8 (C), an environmental impact statement will not be prepared.

FOR FURTHER INFORMATION ON THE PIPELINE PERMIT APPLICATION, CONTACT: Bill Memler, Office of International Energy Policy, Room 3535, U.S. Department of State, Washington, DC, 20520, (202) 647-4557.

SUPPLEMENTARY INFORMATION: Dakota Gasification Company is a corporation formed under the laws of the State of North Dakota, with its principal place of business in Bismarck, North Dakota. On July 7, 1999, the Department of State published a Notice of Application for a Presidential Permit in the Federal Register. No public comments were received and concerned agencies expressed no opposition to issuing the permit. A finding of no significant impact is adopted, and an environmental impact statement will not be prepared.

Dated: March 7, 2000.
Peter E. Bass,
Deputy Assistant Secretary of State for Energy, and Commodities.

[FR Doc. 00-6410 Filed 3-14-00; 8:45 am]

BILLING CODE 4710-07-U